DEPARTMENT OF COMMERCE

National Institute of Standards and Technology

National Fire Protection Association (NFPA): Proposes To Revise Codes and Standards

AGENCY: National Institute of Standards and Technology, Commerce.

ACTION: Notice.

SUMMARY: The National Fire Protection Association (NFPA) proposes to revise some of its safety codes and standards and requests proposals from the public to amend existing or begin the process of developing new NFPA safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline stated in the ROC. Certified motions will then be posted on the NFPA Web site. Documents that receive notice of proper Amending Motions (Certified Amending Motions) will be presented for action at the annual June Association Technical Meeting. Documents that receive no motions will be forwarded directly to the Standards Council for action on issuance.

For more information on these new rules and for up-to-date information on schedules and deadlines for processing NFPA Documents, check the NFPA Web site at www.nfpa.org or contact NFPA Codes and Standards Administration.

DATES: Interested persons may submit proposals on or before the dates listed with the standards.

ADDRESSES: Amy Beasley Cronin, Secretary, Standards Council, NFPA, 1 Batterymarch Park, Quincy, Massachusetts 02169-7471.

FOR FURTHER INFORMATION CONTACT: Amy Beasley Cronin, Secretary, Standards Council, at above address, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

When a Technical Committee begins the development of a new or revised NFPA code or standard, it enters one of two Revision Cycles available each year. The Revision Cycle begins with the Call for Proposals, that is, a public notice asking for any interested persons to submit specific written proposals for developing or revising the Document. The Call for Proposals is published in a variety of publications. Interested parties have approximately twenty weeks to respond to the Call for Proposals.

Following the Call for Proposals period, the Technical Committee holds a meeting to consider and accept, reject or revise, in whole or in part, all the submitted Proposals. The committee may also develop its own Proposals. A document known as the Report on Proposals, or ROP, is prepared containing all the Public Proposals, the Technical Committees' action and each Proposal, as well as all Committee-generated Proposals. The ROP is then submitted for the approval of the Technical Committee by a formal written ballot. If the ROP does not receive approval by a two-thirds vote calculated in accordance with NFPA rules, the Report is returned to the committee for further consideration and is not published. If the necessary approval is received, the ROP is published in a compilation of Reports on Proposals issued by NFPA twice yearly for public review and comment, and the process continues to the next step.

The Reports on Proposals are sent automatically free of charge to all who submitted proposals and each respective committee member, as well as anyone else who requests a copy. All ROPs are also available for free downloading at www.nfpa.org.

Once the ROP becomes available, there is a 60-day comment period during which anyone may submit a Public Comment on the proposed changes in the ROP. The committee then reconvenes at the end of the comment period and acts on all Comments.

As before, a two-thirds approval vote by written ballot of the eligible members of the committee is required for approval of actions on the Comments. All of this information is compiled into a second Report, called the Report on Comments (ROC), which, like the ROP, is published and made available for public review for a seven-week period.

The process of public input and review does not end with the publication of the ROP and ROC. Following the completion of the Proposal and Comment periods, there is yet a further opportunity for debate and discussion through the Association Technical Meeting that take place at the NFPA Annual Meeting.

The Association Technical Meeting provides an opportunity for the final Technical Committee Report (i.e., the ROP and ROC) on each proposed new or revised code or standard to be presented to the NFPA membership for the debate and consideration of motions to amend the Report. Before making an allowable motion at an Association Technical Meeting, the intended maker of the motion must file, in advance of the session, and within the published deadline, a Notice of Intent to Make a Motion. A Motions Committee appointed by the Standards Council then reviews all notices and certifies all amending motions that are proper. Only these Certified Amending Motions, together with certain allowable Follow-Up Motions (that is, motions that have become necessary as a result of previous successful amending motions) will be allowed at the Association Technical Meeting.

For more information on dates/locations of NFPA Technical Committee meetings and NFPA Annual Association Technical Meeting, check the NFPA Web site at: http://www.nfpa.org/itemDetail.asp?categoryID=822&itemID=22818

The specific rules for the types of motions that can be made or who can make them are set forth in NFPA's Regulation Governing Committee Projects which should always be consulted by those wishing to bring an issue before the membership at an Association Technical Meeting.

Interested persons may submit proposals, supported by written data, views, or arguments to Amy Beasley Cronin, Secretary, Standards Council, NFPA, 1 Batterymarch Park, Quincy, Massachusetts 02169-7471. Proposals should be submitted on forms available from the NFPA Codes and Standards Administration Office or on NFPA's Web site at www.nfpa.org.

Each person must include his or her name and address, identify the document and give reasons for the proposal. Proposals received on or before 5 p.m. EDT/EST on the closing date indicated would be acted on by the Committee. The NFPA will consider any proposal that it receives on or before the date listed with the codes or standard.

Document—Edition | Document title | Proposal closing date
NFPA 1—2009 | Fire Code | 11/24/2009
NFPA 15—2007 | Standard for Water Spray Fixed Systems for Fire Protection | 11/24/2009
NFPA 17—2009 | Standard for Dry Chemical Extinguishing Systems | 5/23/2011
NFPA 17A—2009 | Standard for Wet Chemical Extinguishing Systems | 5/23/2011
NFPA 30—2008 | Flammable and Combustible Liquids Code | 11/24/2009
NFPA 30A—2008 | Code for Motor Fuel Dispensing Facilities and Repair Garages | 11/24/2009
NFPA 54—2009 | National Fuel Gas Code | 11/24/2009
NFPA 59—2008 | Utility LP-Gas Plant Code | 11/24/2009
NFPA 59A—2009 | Standard for the Production, Storage, and Handling of Liquefied Natural Gas (LNG) | 11/24/2009
NFPA 70E—2009 | Standard for Electrical Safety in the Workplace® | 1/5/2010
NFPA 75—2009 | Standard for the Protection of Information Technology Equipment | 5/28/2010
NFPA 76—2009 | Standard for the Fire Protection of Telecommunications Facilities | 5/28/2010
NFPA 77—2007 | Recommended Practice on Static Electricity | 11/24/2009
NFPA 80A—2007 | Recommended Practice for Protection of Buildings from Exterior Fire Exposures | 11/24/2009
NFPA 90A—2009 | Standard for the Installation of Air-Conditioning and Ventilating Systems | 11/24/2009
NFPA 90B—2009 | Standard for the Installation of Warm Air Heating and Air-Conditioning Systems | 11/24/2009
NFPA 92A—2009 | Standard for Smoke-Control Systems Utilizing Barriers and Pressure Differences | 11/24/2009
NFPA 92B—2009 | Standard for Smoke Management Systems in Malls, Atria, and Large Spaces | 11/24/2009
NFPA 92 P* | Standard for Smoke Management Systems | 11/24/2009
NFPA 232—2007 | Standard for the Protection of Records | 11/24/2009
NFPA 252—2008 | Standard Methods of Fire Tests of Door Assemblies | 5/28/2010
NFPA 257—2007 | Standard on Fire Test for Window and Glass Block Assemblies | 5/28/2010
NFPA 268—2007 | Standard Test Method for Determining Ignitibility of Exterior Wall Assemblies Using a Radiant Heat Energy Source | 5/28/2010
NFPA 269—2007 | Standard Test Method for Developing Toxic Potency Data for Use in Fire Hazard Modeling | 5/28/2010
NFPA 275—2009 | Standard Method of Fire Tests for the Evaluation of Thermal Barriers Used Over Foam Plastic Insulation | 5/28/2010
NFPA 287—2007 | Standard Test Methods for Measurement of Flammability of Materials in Cleanrooms Using a Fire Propagation Apparatus (FPA) | 5/28/2010
NFPA 288—2007 | Standard Methods of Fire Tests of Floor Fire Door Assemblies Installed Horizontally in Fire Resistance-Rated Floor Systems | 5/28/2010
NFPA 318—2009 | Standard for the Protection of Semiconductor Fabrication Facilities | 11/24/2009
NFPA 385—2007 | Standard for Tank Vehicles for Flammable and Combustible Liquids | 5/28/2010
NFPA 407—2007 | Standard for Aircraft Fuel Servicing | 11/24/2009
NFPA 414—2007 | Standard for Aircraft Rescue and Fire-Fighting Vehicles | 11/24/2009
NFPA 484—2009 | Standard for Combustible Metals | 11/24/2009
NFPA 496—2008 | Standard for Purged and Pressurized Enclosures for Electrical Equipment | 5/23/2011
NFPA 497—2008 | Recommended Practice for the Classification of Flammable Liquids, Gases, or Vapors and of Hazardous (Classified) Locations for Electrical Installations in Chemical Process Areas | 5/28/2010
NFPA 499—2008 | Recommended Practice for the Classification of Combustible Dusts and of Hazardous (Classified) Locations for Electrical Installations in Chemical Process Areas | 5/28/2010
NFPA 655—2007 | Standard for Prevention of Sulfur Fires and Explosions | 11/24/2009
NFPA 664—2007 | Standard for the Prevention of Fires and Explosions in Wood Processing and Woodworking Facilities | 11/24/2009
NFPA 704—2007 | Standard System for the Identification of the Hazards of Materials for Emergency Response | 11/24/2009
NFPA 720—2009 | Standard for the Installation of Carbon Monoxide (CO) Detection and Warning Equipment | 11/24/2009
NFPA 790 P* | Standard for Competency of Third Party Field Evaluation Bodies | 11/24/2009
NFPA 791 P* | Recommended Practice and Procedures for Unlabeled Electrical Equipment Evaluation | 11/24/2009
NFPA 820—2008 | Standard for Fire Protection in Wastewater Treatment and Collection Facilities | 11/24/2009
NFPA 1081—2007 | Standard for Industrial Fire Brigade Member Professional Qualifications | 11/24/2009
NFPA 1125—2007 | Code for the Manufacture of Model Rocket and High Power Rocket Motors | 11/24/2009
NFPA 1141—2008 | Standard for Fire Protection Infrastructure for Land Development in Suburban and Rural Areas | 11/24/2009
NFPA 1142—2007 | Standard on Water Supplies for Suburban and Rural Fire Fighting | 11/24/2009
NFPA 1404—2006 | Standard for Fire Service Respiratory Protection Training | 5/23/2011
NFPA 1500—2007 | Standard on Fire Department Occupational Safety and Health Program | 11/24/2009
NFPA 1582—2007 | Standard on Comprehensive Occupational Medical Program for Fire Departments | 11/24/2009
NFPA 1971—2007 | Standard on Protective Ensembles for Structural Fire Fighting and Proximity Fire Fighting | 12/4/2009
NFPA 1981—2007 | Standard on Open-Circuit Self-Contained Breathing Apparatus (SCBA) for Emergency Services | 12/4/2009
NFPA 1991—2005 | Standard on Vapor-Protective Ensembles for Hazardous Materials Emergencies | 1/15/2010
NFPA 1992—2005 | Standard on Liquid Splash-Protective Ensembles and Clothing for Hazardous Materials Emergencies | 1/15/2010
NFPA 1994—2007 | Standard on Protective Ensembles for First Responders to CBRN Terrorism Incidents | 1/15/2010
NFPA 2112—2007 | Standard on Flame-Resistant Garments for Protection of Industrial Personnel Against Flash Fire | 11/24/2009
NFPA 2113—2007 | Standard on Selection, Care, Use, and Maintenance of Flame-Resistant Garments for Protection of Industrial Personnel Against Flash Fire | 11/24/2009
* Proposed NEW document drafts are available from NFPA's Web site— www.nfpa.org or may be obtained from NFPA's Codes and Standards Administration, 1 Batterymarch Park, Quincy, Massachusetts 02169-7471.

Dated: November 24, 2009.
Patrick Gallagher,
Director.

[FR Doc. E9-28708 Filed 11-30-09; 8:45 am]

BILLING CODE 3510-13-P